DEPARTMENT OF THE INTERIOR

Geological Survey

[GX21xxxx; OMB Control Number 1028-NEW]

Agency Information Collection Activities; Hawaii Forest Restoration Synthesis Online Survey and Interviews

AGENCY: U.S. Geological Survey, Interior.

ACTION: Notice of information collection; request for comment.

SUMMARY: In accordance with the Paperwork Reduction Act (PRA) of 1995, the U.S. Geological Survey (USGS) is requesting approval of an existing collection in use without an OMB number.

DATES: Interested persons are invited to submit comments on or before October 14, 2022.

ADDRESSES: Send your comments on this information collection request (ICR) by mail to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Gordon Tribble by email at gtribble@usgs.gov, or by telephone at 808-985-6457. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The information collection includes closed-ended and open-ended responses to questions about forest restoration across the Hawaiian Islands, solicited from self-identified restoration practitioners, through an online survey (approximately 70-100 respondents) and semi-structured interviews (20-40 participants). The objective of this effort is to gather information and identify emergent themes and patterns drawn from personal perspectives and narratives not otherwise captured in ecologically-focused studies. This will aid researchers in identifying ways to improve the effectiveness and scaling up of forest restoration efforts in alignment with broadly stated ecosystem restoration goals of local NGOs to state, federal, and inter-governmental organizations.

Title of Collection: Hawaii Forest Restoration Synthesis Online Survey and Interviews.

OMB Control Number: 1028-NEW.

Form Number: None.

Type of Review: NEW.

Respondents/Affected Public: The survey is being distributed to people working on forest restoration in Hawaii. This includes federal, state, cultural practitioners, university, NGOs, and private citizens.

Total Estimated Number of Annual Respondents: 100.

Total Estimated Number of Annual Responses: 100.

Estimated Completion Time per Response: 30 minutes.

Total Estimated Number of Annual Burden Hours: 50 hours.

Respondent's Obligation: Voluntary.

Frequency of Collection: This is a one-time survey.

Total Estimated Annual Nonhour Burden Cost: No non-labor costs.

An agency may not conduct or sponsor, nor is a person is required to respond to, a collection of information unless it displays a currently valid OMB control number.

The authority for this action is the Paperwork Reduction Act of 1995 (44 U.S.C. 3501 et seq.).

Gordon Tribble,
Director, Pacific Island Ecosystems Research Center, USGS.

[FR Doc. 2022-17443 Filed 8-12-22; 8:45 am]

BILLING CODE 4338-11-P